DEPARTMENT OF TRANSPORTATION

Federal Motor Carrier Safety Administration

[Docket No FMCSA-2011-0097]

Pilot Project on NAFTA Trucking Provisions; Commercial Driver's License Memorandum of Understanding with the Government of Mexico

AGENCY: Federal Motor Carrier Safety Administration (FMCSA).

ACTION: Notice.

SUMMARY: Since entering into a Memorandum of Understanding (MOU) with Mexico on November 21, 1991, on the equivalency of a Mexican Licencia Federal de Conductor (LF) and a commercial driver's license (CDL) issued in the United States, the U.S. motor carrier safety regulations have recognized the LF as equivalent to a CDL. As the Federal Motor Carrier Safety Administration (FMCSA) explained in its Federal Register notice of April 13, 2011 (the April Notice), proposing the requirements for the United States-Mexico cross border long-haul trucking pilot program, the Secretary of Transportation will accept only three areas of Mexican regulation as being equivalent to U.S. regulations. One of those areas is the reciprocal recognition of the LF and the CDL.

In the Agency's July 8, 2011, Federal Register notice (the July Notice), however, FMCSA recognized concerns about the on-going acceptance of the existing CDL MOU and committed to site visits at Mexican driver training, testing, and licensing locations prior to beginning the pilot program to review Mexico's on-going compliance with the terms of the current MOU. The Agency agreed to post reports of these visits on the FMCSA pilot program Web site at http:/www.fmcsa.dot.gov/intl-programs/trucking/Trucking-Program.aspx. The Agency also added copies of the 1991 MOU regarding CDL reciprocity to the docket for the pilot program.

This notice is provided to summarize the results of the site visits and make interested parties aware that the report has been posted on the pilot program Web site and added to the docket for this pilot program.

ADDRESSES: You may search background documents or comments to the docket for this notice, identified by docket number FMCSA-2011-0097, by visiting the:

• eRulemaking Portal: http://www.regulations.gov. Follow the online instructions for reviewing documents and comments. Regulations.gov is available electronically 24 hours each day, 365 days a year; or

• DOT Docket Room: Room W12-140 on the ground floor of the DOT Headquarters Building at 1200 New Jersey Avenue, SE., Washington, DC 20590 between 9 a.m. and 5 p.m., ET, Monday through Friday, except Federal holidays.

Privacy Act: Anyone is able to search the electronic form of all comments received into any of our dockets by the name of the individual submitting the comment (or signing the comment, if submitted on behalf of an association, business, labor union, etc.). You may review DOT's Privacy Act System of Records Notice for the DOT Federal Docket Management System published in the Federal Register on January 17, 2008 (73 FR 3316), or you may visit http://edocket.access.gpo.gov/2008/pdf/E8-785.pdf.

FOR FURTHER INFORMATION CONTACT: Marcelo Perez, FMCSA, North American Borders Division, 1200 New Jersey Avenue, SE., Washington, DC 20590-0001. Telephone (512) 916-5440 Ext. 228; e-mail marcelo.perez@dot.gov.

SUPPLEMENTARY INFORMATION:

Background

In FMCSA's April Notice (76 FR 20807) proposing the requirements for the United States-Mexico cross border long-haul trucking pilot program, the Agency explained that the Secretary of Transportation will accept only three areas of Mexican regulations as being equivalent to U.S. regulations. One of these areas is the set of regulations governing the licensing requirements for the operation of commercial motor vehicles (CMVs). The United States' acceptance of a Mexican LF for CMV operations in the United States dates back to November 21, 1991, when the Federal Highway Administrator, who oversaw CMVs at the time, determined that the Mexican LF is equivalent to a CDL issued by a State in the United States, revised the Federal motor carrier safety regulations to recognize the Mexican LF, and entered into an MOU with Mexico that memorialized the equivalency findings. In its April Notice, FMCSA explained that the Agency is in the process of updating this MOU.

As part of this process, on February 17, 2011, representatives from FMCSA, the Commercial Vehicle Safety Alliance and the American Association of Motor Vehicle Administrators visited a Mexican driver license facility, medical qualification facility, and test and inspection location. During these site visits, FMCSA and its partner organizations observed Mexico to have rigorous requirements for knowledge and skills testing that are similar to those in the United States. In addition, Mexico requires that all new commercial drivers undergo training prior to testing and requires additional retraining each time the license is renewed.

In addition, in the Agency's July Notice (76 FR 40420), FMCSA recognized concerns about the on-going acceptance of the existing CDL MOU. It committed to additional site visits to Mexican driver training, testing, and licensing locations prior to beginning the pilot program to review Mexico's on-going compliance with the terms of the current MOU. The Agency agreed to post reports of these visits on the FMCSA pilot program Web site at http:/www.fmcsa.dot.gov/intl-programs/trucking/Trucking-Program.aspx. The Agency also added the 1991 MOU regarding CDL reciprocity to the docket for the pilot program.

The MOU Testing Requirements

The MOU requires that before obtaining an LF, a driver must pass a knowledge test. The areas covered in that test must be comparable to those in 49 CFR part 383. In addition, the test must have at least 80 questions and a driver must have a minimum score of 80 percent to pass. The tests must be administered separately for each LF class. The MOU also requires that before obtaining an LF, a driver must pass a skills test that is comparable to that in 49 CFR part 383. The skills test must be given in a CMV that is representative of the LF class of license sought. Lastly, the skills test must be conducted in on-street or a combination of on/off street conditions.

During the review process, FMCSA learned that until April 21, 2010, commercial driver's license testing was conducted by both the Government of Mexico's Secretaria de Comunicaciones y Transportes (SCT) and private Mexican training centers. Since April 21, 2010, however, a driver must take his/her test at a private training center rather than directly from SCT. As a result, while some Mexican drivers have LFs based on testing from SCT, others have LFs based on testing by private training centers.

SCT Testing

FMCSA reviewed the database of questions SCT used in its tests and confirmed that it covered the required subject matter. FMCSA also confirmed the number of questions on the SCT test, that SCT imposed the required passing rate of 80 percent, that SCT conducted skills tests in representative vehicles, and that a portion of SCT skills test included a demonstration of skills on the highway. Therefore, FMCSA is confident that SCT-issued tests are in compliance with the CDL MOU.

Training Center Testing

Per SCT, there are 204 SCT-certified training schools for first issuance LFs in Mexico. Similar to the United States, some of the certified training schools are public and others are training centers run by trucking companies. Representatives from FMCSA visited nine training centers in Mexico in Nuevo Laredo, Tuiltitlan, Veracruz, Guadaljara, Tijuana (two schools), Monterrey, Tlaxcala and Mexico City. FMCSA selected these cities based on the number of international LFs issued and renewed in these locations, the number of cargo drivers trained in the cities, the number of training centers they cover, the number of LFs from the cities that are verified in the United States via the Commercial Driver's License Information System check, and their general populations. Other factors considered in selecting specific locations included the number of main trade corridors linking each location, their geographical position, and proximity to the U.S. border. The Tlaxcala training center was selected to represent training centers outside of large urban areas in Mexico.

Prior to the visits, FMCSA requested from SCT a list of drivers who were trained at the centers between July 2010 and June 2011. The drivers selected were first time LF applicants for an LF Class B international license. The list included close to 30,000 drivers. The review team randomly selected and reviewed driver files at each of the training centers and the SCT field offices to determine compliance with the requirements of the MOU. The review team visited each training center to document whether drivers trained and tested there had to pass a knowledge and skills test as prescribed in the MOU. The review team also visited the SCT Field Office corresponding to each of the training centers. The reviewers confirmed that drivers were licensed to operate the same class of vehicles on which they were trained.

Based on its review of the nine schools, FMCSA determined that while the schools were close to full compliance with the terms of the MOU, there are improvements needed in the schools' testing to ensure consistent compliance. Specifically, FMCSA discovered two schools that had passing scores below the required 80 percent threshold; one school with 71 questions on its exam; and several schools that missed one or two of the required 20 subject matter areas. The report detailing the site visits is available at the Agency's Web site for the pilot program at http://www.fmcsa.dot.gov/intl-programs/trucking/Trucking-Program.aspx. In addition, the report has been added to the docket for the pilot program.

FMCSA shared the results of the report with SCT. SCT has committed to sending out information to all of the testing centers, reminding them of the MOU requirements and to requiring corrective action from the testing centers visited. In addition, in six months, FMCSA will be revisiting the training centers reviewed in the report as well as additional sites to confirm compliance with the MOU.

FMCSA does not believe that the findings described above compel any modifications to the pilot program's driver qualification standards established in the MOU. To implement the program in a manner that will ensure compliance with those standards and the safety of drivers seeking to participate in the pilot program, the Agency will approve only those drivers who were tested by SCT. If a driver's original test was conducted by a private training center rather than by SCT, the driver will be required to be retested by SCT before he/she may be approved for the pilot program. SCT has agreed to conduct such testing for the pilot program participant drivers.

Issued on: October 6, 2011.
Anne S. Ferro,
Administrator.

[FR Doc. 2011-26442 Filed 10-7-11; 11:15 am]

BILLING CODE 4910-EX-P